ENVIRONMENTAL PROTECTION AGENCY

[EPA-HQ-OAR-2021-0557-0001; FRL-9618-01-OMS]

Information Collection Request Submitted to OMB for Review and Approval; Comment Request; Part 70 State Operating Permit Program (Renewal)

AGENCY: Environmental Protection Agency (EPA).

ACTION: Notice.

SUMMARY: The Environmental Protection Agency (EPA) has submitted an information collection request (ICR), Part 70 State Operating Permit Program (EPA ICR Number 1587.15, OMB Control Number 2060-0243) to the Office of Management and Budget (OMB) for review and approval in accordance with the Paperwork Reduction Act. This is a proposed extension of the ICR, which is currently approved through April 30, 2022. Public comments were previously requested via the Federal Register on August 31, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before April 25, 2022.

ADDRESSES: Submit your comments, identified by Docket ID No. EPA-HQ-OAR-2021-0557-0001, to EPA online using https://www.regulations.gov (our preferred method), or by mail to: EPA Docket Center, Environmental Protection Agency, Mail Code 28221T, 1200 Pennsylvania Ave. NW, Washington, DC 20460.

EPA's policy is that all comments received will be included in the public docket without change including any personal information provided, unless the comment includes profanity, threats, information claimed to be confidential business information or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Corey Sugerik, Air Quality Policy Division, Office of Air Quality Planning and Standards, C504-05, Environmental Protection Agency, Research Triangle Park, NC; telephone number: (919) 541-3223; fax number: (919) 541-5509; email address: sugerik.corey@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC.

Abstract: Title V of the Clean Air Act (Act) requires states to develop and implement a program for issuing operating permits to all sources that fall under any Act definition of “major” and certain other non-major sources that are subject to federal air quality regulations. The Act further requires the EPA to develop regulations that establish the minimum requirements for those state operating permits programs and to oversee implementation of the state programs. The EPA regulations setting forth requirements for the state operating permit program are found at 40 CFR part 70. The part 70 program is designed to be implemented primarily by state, local and tribal permitting authorities in all areas where they have jurisdiction.

In order to receive an operating permit for a major or other source subject to the permitting program, the applicant must conduct the necessary research, perform the appropriate analyses and prepare the permit application with documentation to demonstrate that its facility meets all applicable statutory and regulatory requirements. Specific activities and requirements are listed and described in the Supporting Statement for the 40 CFR part 70 ICR.

Under 40 CFR part 70, state, local and tribal permitting authorities review permit applications, provide for public review of proposed permits, issue permits based on consideration of all technical factors and public input and review information submittals required of sources during the term of the permit. Also, under 40 CFR part 70, the EPA reviews certain actions of the permitting authorities and provides oversight of the programs to ensure that they are being adequately implemented and enforced. Consequently, information prepared and submitted by sources is essential for sources to receive permits, and for federal, state, local and tribal permitting authorities to adequately review the permit applications and thereby properly administer and manage the program.

Information that is collected is handled according to the EPA's policies set forth in title 40, chapter 1, part 2, subpart B—Confidentiality of Business Information (see 40 CFR part 2). See also section 114(c) of the Act.

Form Numbers: None.

Respondents/affected entities: Industrial plants (sources); state, local and tribal permitting authorities.

Respondent's obligation to respond: Mandatory (see 40 CFR part 70).

Estimated number of respondents: 14,201 sources and 117 state, local and tribal permitting authorities.

Frequency of response: On occasion.

Total estimated burden: 4,756,110 hours (per year). Burden is defined at 5 CFR 1320.03(b).

Total estimated cost: $345,079,951 (per year). There are no annualized capital or operation & maintenance costs.

Changes in Estimates: There is an increase of 17,186 hours per year for the estimated respondent burden compared with the ICR currently approved by OMB. This increase is due to updated estimates of the number of sources and permits subject to the part 70 program, rather than any change in federal mandates.

Courtney Kerwin,
Director, Regulatory Support Division.

[FR Doc. 2022-06348 Filed 3-24-22; 8:45 am]

BILLING CODE 6560-50-P